DEPARTMENT OF HOUSING AND URBAN DEVELOPMENT

[Docket No. FR-5487-N-21]

Notice of Proposed Information Collection for Public Comment for the Resident Opportunities and Self-Sufficiency Program

AGENCY: Office of the Assistant Secretary for Public and Indian Housing, HUD.

ACTION: Notice.

SUMMARY: The proposed information collection requirement described below will be submitted to the Office of Management and Budget (OMB) for review, as required by the Paperwork Reduction Act of 1995 (44 U.S.C. chapter 35, as amended). The Department is soliciting public comments on the subject proposal.

DATES: Comments Due Date: February 14, 2012.

ADDRESSES: Interested persons are invited to submit comments regarding this proposal. Comments should refer to the proposal by name and/or OMB Control number and should be sent to: Colette Pollard, Departmental Reports Management Officer, QDAM, Department of Housing and Urban Development, 451 7th Street SW., Room 4178, Washington, DC 20410-5000; telephone (202) 402-3400, (this is not a toll free number) or email Ms. Pollard at Colette.Pollard@hud.gov for information on the data collected. Persons with hearing or speech impairments may access this number through TTY by calling the toll-free Federal Information Relay Service at (800) 877-8339. (Other than the HUD USER information line and TTY numbers, telephone numbers are not toll-free.)

FOR FURTHER INFORMATION CONTACT: Arlette A. Mussington, Office of Policy, Programs and Legislative Initiatives, PIH, Department of Housing and Urban Development, 470 L'Enfant Plaza SW., Suite 2206, Washington, DC 20024, telephone (202) 402-4109, (this is not a toll-free number) or email at Arlette.A.Mussington@hud.gov.

SUPPLEMENTARY INFORMATION: The Department will submit the proposed information collection to OMB for review, as required by the Paperwork Reduction Act of 1995 (44 U.S.C. chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also lists the following information:

Title of Proposal: Resident Opportunities and Self-Sufficiency Program.

OMB Control Number: 2577-0229.

Description of the Need for the Information and Proposed Use: Section 538 of the Public Housing Reform Act (Pub. L. 105-276, 112 Stat. 2461, approved October 21, 1998) added a new section 34 to the U.S. Housing Act of 1937 which provides a mandate to link supportive services to help public housing residents achieve economic self-sufficiency. The Resident Opportunities and Self-Sufficiency Service Coordinator (ROSS-SC) Program responds to this requirement by providing funding to Public Housing Authorities, Tribes/Tribally Designated Housing Entities (TDHEs), resident organizations, and qualified nonprofit organizations to link residents of public housing to supportive services. For fiscal year 2012, Congress appropriated approximately $50 million for the ROSS-SC Program. Of this funding, HUD reserves $15 million for the Public Housing Family Self-Sufficiency program.

Section 23 of the 1937 Housing Act established the Family Self-Sufficiency (FSS) program in HUD's rental voucher and public housing programs. HUD operates two FSS programs, one for the voucher program (Housing Choice Voucher, or HCV FSS) and one for public housing. The purpose of both FSS programs is to promote the development of local strategies to coordinate the use of public housing assistance with public and private resources, to enable families eligible to achieve economic independence and self-sufficiency. OMB asked HUD to more closely align the two programs, which includes the application process. HUD has modified the public housing program to more closely reflect the characteristics of the HCV FSS program. In so doing, HUD is proposing to replace the ROSS-FSS form (HUD-52767) with the HCV FSS form (HUD-52651). This form, two other program specific forms, and several standard forms outlined below, will be used to determine eligibility and evaluate capacity of prospective applicants for the PH FSS program.

The information provided to HUD by the eligible applicants will be reviewed and evaluated by HUD. Using a comprehensive, merit-based selection process, HUD will determine which organizations should receive awards under the ROSS-SC and PH FSS programs.

This notice lists all forms associated with both the ROSS-SC program and the PH FSS program. However, HUD is asking for public comment specifically on the replacement of the ROSS-FSS form with the HCV FSS form.

Agency Form Numbers

ROSS-SC Forms

• HUD-52752, Certification with Indian Housing Plan, (OMB Approval #: 2577-0229).

• HUD-52754, List of Resident Associations Supporting Nonprofit Applicants, (OMB Approval #: 2577-0229).

• HUD-52755, Sample Contract Administrator Partnership Agreement, (OMB Approval #: 2577-0229).

• HUD-52768, ROSS Service Coordinator Application Form, (OMB Approval #: 2577-0229).

• HUD-52769—ROSS Needs/Partners Form, (OMB Approval #: 2577-0229).

Public Housing FSS Forms

• HUD-52752, Certification with Indian Housing Plan, (OMB Approval #: 2577-0229).

• HUD-52755, Sample Contract Administrator Partnership Agreement, (OMB Approval #: 2577-0229).

• HUD-52651, HCV FSS Funding Request Form (OMB Approval #: 2577-0178).

* Additional Forms Used To Evaluate Both ROSS and PH FSS Applicants

• SF-424 Application for Federal Assistance.

• SF-424 Supplement, Survey on Ensuring Equal Opportunity for Applicants.

• HUD-2880—Applicant Disclosure/Update Report (2510-0011).

• HUD-2991—Certification of Consistency with Consolidated Plan.

• SF-LLL-Disclosure of Lobbying Activities.

• HUD 96010—Logic Model (2535-0114).

Members of the Affected Public: Public Housing Agencies, Tribes/TDHEs, nonprofits, and Resident Associations.

Estimation of the total number of hours needed to prepare the information collection including number of respondents: HUD anticipates that there will be 400 applicants to the ROSS-SC program. For the ROSS SC program, the burden would be between 5 and 6 hours per application (depending on type of applicant), the average is 5.5, times 400 applications for a total of 2200 hours. Fewer forms are required for the FSS program than for the ROSS-SC program, the burden hours for this program would be .75 hours per application, times 300 applications for a total of 225 hours. The sum total average burden hours for both program applications is 2425.

There will be no additional costs to the respondents as application preparation and submission are part of the regular operation of Housing Authorities, Tribes, nonprofits, and resident organizations.

* Burden hours for forms showing zero burden hours in this collection are reflected in the OMB approval number cited or do not have a reportable burden. The burden hours for this collection is 2425.

Status of the Proposed Information Collection: Revision of a currently approved collection.

Authority: Section 3506 of the Paperwork Reduction Act of 1995, 44 U.S.C. Chapter 35, as amended.

Dated: December 8, 2011.
Merrie Nichols-Dixon,
Deputy Director for Policy, Program and Legislative Initiatives.

[FR Doc. 2011-32331 Filed 12-15-11; 8:45 am]

BILLING CODE 4210-67-P